DEPARTMENT OF COMMERCE

International Trade Administration

[A-570-932]

Certain Steel Threaded Rod From the People's Republic of China: Extension of Time Limit for the Preliminary Results of Antidumping Duty Administrative Review

AGENCY: Import Administration, International Trade Administration, Department of Commerce.

SUMMARY: The Department of Commerce (“Department”) is extending the time limit for the preliminary results of the administrative review of certain steel threaded rod from the People's Republic of China (“PRC”). The review covers the period October 8, 2008, through March 31, 2010.

DATES: Effective Date: November 19, 2010.

FOR FURTHER INFORMATION CONTACT: Toni Dach or Steven Hampton, AD/CVD Operations, Office 9, Import Administration, International Trade Administration, U.S. Department of Commerce, 14th Street and Constitution Avenue, NW., Washington, DC 20230; telephone: (202) 482-1655 or (202) 482-0116, respectively.

Background

On May 28, 2010, the Department published a notice of initiation of the administrative review of the antidumping duty order on certain steel threaded rod from the PRC. See Initiation of Antidumping and Countervailing Duty Administrative Reviews, 75 FR 29976, 29980-82 (May 28, 2010). The preliminary results of the reviews are currently due no later than December 31, 2010.

Statutory Time Limits

In antidumping duty administrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of these administrative reviews within the original time limit because the Department requires additional time to analyze questionnaire responses, issue supplemental questionnaires if necessary, and evaluate surrogate value submissions for purposes of the preliminary results.

Therefore, the Department is partially extending the time limit for completion of the preliminary results of the administrative review by 120 days. The preliminary results will now be due no later than May 2, 2011, the first business day following 120 days from the current deadline. See Notice of Clarification: Application of “Next Business Day” Rule for Administrative Determination Deadlines Pursuant to the Tariff Act of 1930, as Amended, 70 FR 24533 (May 10, 2005). The final results continue to be due 120 days after the publication of the preliminary results.

We are issuing and publishing this notice in accordance with sections 751(a)(3)(A) and 777(i) of the Act.

Dated: November 12, 2010.
Susan H. Kuhbach,
Acting Deputy Assistant Secretary for Antidumping and Countervailing Duty Operations.

[FR Doc. 2010-29266 Filed 11-18-10; 8:45 am]

BILLING CODE 3510-DS-P